DEPARTMENT OF THE INTERIOR

Bureau of Indian Affairs

[245A2100DD/AAKC001030/A0A501010.999900]

Final Environmental Impact Statement for the Redding Rancheria Win-River Casino Relocation Project

AGENCY: Bureau of Indian Affairs, Interior.

ACTION: Notice of availability.

SUMMARY: This notice advises the public that the Bureau of Indian Affairs (BIA), as lead agency, with the Redding Rancheria (Tribe), City of Redding (City), Shasta County (County), the California Department of Transportation, District 2 and the U.S. Environmental Protection Agency, Region 9 serving as cooperating agencies, intends to file a Final Environmental Impact Statement (FEIS) with the U.S. Environmental Protection Agency (EPA) in connection with the Tribe's application to transfer into trust approximately 232 acres for gaming purposes in Shasta County, California (Strawberry Fields Site).

DATES: The Record of Decision for the proposed action will be issued on or after 30 days from the date the EPA publishes its Notice of Availability in the Federal Register. The BIA must receive any comments on the FEIS before that date.

ADDRESSES: By mail or hand delivery to: Amy Dutschke, Regional Director, Bureau of Indian Affairs, Pacific Region, 2800 Cottage Way, Sacramento, California 95825. Please include your name, return address, and “FEIS Comments, Redding Rancheria Project” on the first page of your written comments. You may also submit comments through email to Chad Broussard, Environmental Protection Specialist, Bureau of Indian Affairs, at chad.broussard@bia.gov. If emailing comments, please use “FEIS Comments, Redding Rancheria Project” as the subject of your email.

FOR FURTHER INFORMATION CONTACT: Chad Broussard, Environmental Protection Specialist, Bureau of Indian Affairs, Pacific Regional Office, 2800 Cottage Way, Room W-2820, Sacramento, California 95825; telephone: (916) 978-6165; email: chad.broussard@bia.gov. Information is also available online at http://www.reddingeis.com.

SUPPLEMENTARY INFORMATION: The Notice of Availability (NOA) of the Draft EIS was published by the BIA (84 FR 14391) on April 10, 2019, and EPA (84 FR 16485) in the Federal Register on April 19, 2019. The Draft EIS was originally made available for public comment for a 45-day period. However, the BIA extended the public comment period for an additional two weeks that concluded on June 17, 2019. A public hearing was held on May 20, 2019, to collect verbal comments on the Draft EIS. On May 14, 2020, the BIA published a notice to suspend preparation of the EIS (85 FR 28973). On September 23, 2021, the BIA published a notice of resumption of the EIS (85 FR 52922).

Background

The following alternatives are considered in the FEIS: (1) Proposed Project; (2) Proposed Project with No Retail Alternative; (3) Reduced Intensity Alternative; (4) Non-Gaming Alternative; (5) Anderson Site Alternative; (6) Expansion of Existing Casino Alternative and (7) and No Action/No Development Alternative. The BIA has selected Alternative 1, the Proposed Project, as the Preferred Alternative as discussed in the FEIS.

Environmental issues addressed in the FEIS include geology and soils, water resources, air quality, biological resources, cultural and paleontological resources, socioeconomic conditions (including environmental justice), transportation and circulation, land use, public services, noise, hazardous materials, aesthetics, cumulative effects, and indirect and growth inducing effects.

The information and analysis contained in the FEIS, as well as its evaluation and assessment of the Preferred Alternative, will assist the Department in its review of the issues presented in the Tribe's application. Selection of the Preferred Alternative does not indicate the Department's final decision because the Department must complete its review process. The Department's review process consists of (1) issuing the notice of availability of the FEIS; (2) issuing a Record of Decision no sooner than 30 days following publication of a Notice of Availability of the FEIS by the EPA in the Federal Register; and (3) transfer of the Strawberry Fields Site in to trust.

Locations where the FEIS is Available for Review: The FEIS is available for review at https://reddingeis.com. Contact information is listed in the FOR FURTHER INFORMATION CONTACT section of this notice.

Public Comment Availability: Comments, including names and addresses of respondents, will be included as part of the administrative record and responses to comments on the Final EIS. Before including your address, phone number, email address, or other personal identifying information in your comment, you should be aware that your entire comment—including your personal identifying information—may be made publicly available at any time. While you can ask in your comment that your personal identifying information be withheld from public review, the BIA cannot guarantee that this will occur.

Authority

This notice is published pursuant to section 1503.1 of the Council of Environmental Quality Regulations (40 CFR part 1500 through 1508) and section 46.305 of the Department of the Interior Regulations (43 CFR part 46), implementing the procedural requirements of the NEPA of 1969, as amended (42 U.S.C. 4371, et seq.), and is in the exercise of authority delegated to the Assistant Secretary—Indian Affairs by 209 DM 8. This notice is also published in accordance with 40 CFR 93.155, which provides reporting requirements for conformity determinations.

Wizipan Garriott,
Principal Deputy Assistant Secretary—Indian Affairs, Exercising by delegation the authority of the Assistant Secretary—Indian Affairs.

[FR Doc. 2024-07048 Filed 4-2-24; 8:45 am]

BILLING CODE 4337-15-P